DEPARTMENT OF STATE

[Public Notice 3720]

Bureau for International Narcotics & Law Enforcement Affairs; Office of Anti-Crime Programs

SUMMARY: The Office of Anti-Crime Programs (INL/C) is seeking proposals from qualified U.S. Organizations and Institutions with relevant capability and experience to conduct a program in civic education on crime and corruption for a two year period. Current plans are to award a Cooperative Agreement for $400,000 to initiate the Civic Education Program (CEP) in three countries (El Salvador, Nigeria and Peru), with the understanding that additional program funds and target countries may be added on a case-by-case basis.

Application packages are due Wednesday, August 15, 2001. Interested applicants may obtain detailed application instructions from the following web site: www.statebuy.gov; click on grant opportunities.

For questions, please contact: Linda Gower, Grants Officer, INL/RM/MS, Department of State, Navy Hill South, 2430 E. Street, NW, Washington, DC 20520 Tel. 202-776-8774.

Dated: July 11, 2001.
Linda G. Gower,
Acting Chief, Management Systems Division, Department of State.

[FR Doc. 01-17974 Filed 7-17-01; 8:45 am]

BILLING CODE 4710-17-P